DEPARTMENT OF HEALTH AND HUMAN SERVICES

Administration on Aging

[Program Announcement No. AoA-05-01]

Fiscal Year 2004 Program Announcement; Availability of Funds and Notice Regarding Applications

AGENCY: Administration on Aging, HHS.

ACTION: Announcement of availability of funds and request for applications for the Older Americans Act (OAA), title VI, part A—Grants for Native Americans and Part C—Grants for the Native American Caregiver Support Program.

SUMMARY: The Administration on Aging will accept applications for funding for a three-year project period, April 1, 2005, to March 31, 2008, in FY 2005 under the OAA, title VI, part A, Grants for Native Americans and title VI, part C, Grants for the Native American Caregiver Support Program. Current funding levels for title VI, part A range from $73,620 to $179,810. Current funding levels for title VI, part C range from $16,990 to $67,990. Distribution of funds among tribal organizations is subject to the availability of appropriations to carry out title VI. Funding is based on the number of eligible elders over the age of 60 in your proposed service area. Successful applications from new grantees will be funded pending availability of additional funds. For those applying for title VI, part A funding you have the option to also apply for part C. However, to apply for part C you must apply for both part A and part C.

Legislative authority: The Older Americans Act, Public Law 106-501 (Catalog of Federal Domestic Assistance 93.047, title VI).

Purpose of grant awards: The purpose of these grants is to provide nutritional and supportive services to Indian elders under part A and Family Caregiver support services under part C. The goal of these programs is to increase home and community based services to older Indians and Alaska Natives, which respond to local needs and are consistent with evidence-based prevention practices.

Eligibility for grant awards and other requirements: Eligible applicants are all current title VI, part A grantees, current grantees who wish to leave a consortium and apply as a new grantee, and eligible federally recognized Indian tribal organizations that are not now participating in title VI, and would like to apply as a new grantee. A tribal organization or Indian tribe must meet the application requirements contained in sections 612(a), 612(b), and 612(c) of the OAA. Under the Native American Caregiver Support Program a tribal organization must meet the requirements as contained in section 631 of the OAA. These sections are described in the application kit.

Executive Order 12372 is not applicable to these grant applications.

Screening criteria: All applicants must be Federally Recognized Indian tribal organizations representing at least 50 persons aged 60 years or over. Applicants must apply for title VI, part A to be eligible to apply for title VI, part C.

DATES: The deadline date for the submission of applications is January 31, 2005.

ADDRESSES: Application kits are available by writing to the U.S. Department of Health and Human Services, Administration on Aging, Office for American Indian, Alaskan Native and Native Hawaiian Programs, Washington, DC 20201, by calling (202) 357-3537 or online at http://www.aoa.gov. An application kit will be mailed to all current grantees.

Applications may be mailed to the U.S. Department of Health and Human Services, Administration on Aging, Office of Grants Management, Washington, DC 20201, attn: Margaret Tolson (AoA-04-09).

Applications may be delivered to the U.S. Department of Health and Human Services, Administration on Aging, Office of Grants Management, One Massachusetts Avenue, NW., Room 4604, Washington, DC 20001, attn: Margaret Tolson (AoA-04-09).

If you elect to mail or hand deliver your application you must submit one original and two copies of the application.

SUPPLEMENTARY INFORMATION: All grant applicants must obtain a D-U-N-S number from Dun and Bradstreet. It is a nine-digit identification number, which provides unique identifiers of single business entities. The D-U-N-S number is free and easy to obtain from http://www.dnb.com/US/duns_update/.

Applicants must specify at the beginning of the application if you are applying for part A funding only or for both part A and part C. The application must include an appropriate narrative description of the geographical area to be served. All certifications and assurances must be signed and submitted with the application as well as an original copy of the Tribal council resolution authorizing participation in title VI, part A or title VI, part A and part C for the grant period April 1, 2005, to March 31, 2008. If a tribal organization represents a consortium of more than one Tribe, a resolution is required from each participating Tribe, specifically authorizing representation by the tribal organization for the purpose of title VI of the OAA for the grant period April 1, 2005, to March 31, 2008. Applications must identify both the principal official of the tribal organization, and the proposed title VI Program Director. If the applicant tribal organization is a consortium the applicant must list the federally recognized tribes that are included.

FOR FURTHER INFORMATION CONTACT: M. Yvonne Jackson, Ph.D.; Office for American Indian, Alaskan Native, and Native Hawaiian Programs; AoA; Department of Health and Human Services; Washington, DC 20201; telephone (202) 357-3501; fax (202) 357-3560; e-mail: Yvonne.Jackson@aoa.gov.

Dated: October 28, 2004.
Josefina G. Carbonell,
Assistant Secretary for Aging.

[FR Doc. 04-24392 Filed 11-1-04; 8:45 am]

BILLING CODE 4154-01-P